DEPARTMENT OF THE INTERIOR

Fish and Wildlife Service

[FWS-R3-ES-2011-N111; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before June 27, 2011.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE42196A

Applicant: Illinois River Biological Station, Illinois Natural History Survey, Havana, IL.

The applicant requests a permit to take (capture and release) pallid sturgeon (Scaphyrinchus albus) throughout Illinois. Activities are proposed for long-term monitoring of fish communities in the large rivers of Illinois and are for the enhancement of survival of the species in the wild.

Permit Application Number: TE43541A

Applicant: Francesca J. Cuthbert, University of Minnesota, St. Paul, MN.

The applicant requests a permit renewal to take (capture and release; capture and rear) piping plover (Charadrius melodus) in Michigan and Wisconsin. The research entails capture and marking of piping plovers, erecting nesting exclosures to improve nesting success, and salvaging orphaned eggs and nestlings to enhance the survival of the species in the wild.

Permit Application Number: TE43545A

Applicant: Shawna R. Kriegshauser, Lewistown, MO.

The applicant requests a permit to take (capture and release) American Burying Beetle (Nicrophorus americanus) within Deer Ridge Conservation Area, Lewis County, Missouri. Proposed activities are aimed at enhancement of survival of the species in the wild.

Permit Application Number: TE43555A

Applicant: Maria Gabriella Bidart-Bouzat, Bowling Green State University, Bowling Green, OH.

The applicant requests a permit renewal to take (temporarily hold) Karner Blue Butterfly (Lycaeides melissa samuelis) adults, eggs and larvae to test interactions with wild lupine of varying origins. Specimens will be received in conjunction with permitted reintroduction programs, and all larval specimens surviving to adults will be released to the wild following authorized activities. Research is proposed for the recovery and enhancement of survival of the species in the wild.

Permit Application Number: TE43605A

Applicant: Daniel R. Cox, Streator, IL.

The applicant requests a permit renewal to take (capture and release) Indiana bats (Myotis sodalis) throughout the range of the species. Proposed activities are for enhancement of survival of the species in the wild.

Permit Application Number: TE02365A

Applicant: Lynn W. Robbins, Missouri State University, Springfield, MO.

The applicant requests an amendment to permit number TE02365A to add the Ozark big-eared bat (Corynorhinus townsendii ingens) to the list of species covered and to add the State of Arkansas to the geographic scope of the permit. Proposed activities are for the survival and enhancement of survival of the species in the wild.

Permit Application Number: TE130900

Applicant: EnviroScience, Inc., Stow, OH.

The applicant requests an amendment to permit number TE130900 to add the states of Arkansas and Tennessee to the geographic scope of the permit and to add the following mussel species to the permit: Arkansia wheeleri, Epioblasma florentina curtisii, Lampsilis powelli, Lampsilis streckeri, Alasmidonta atropupurea, Alasmidonta raveneliana, Dromus dromas, Epioblasma brevidens, Epioblasma capsaeformis, Epioblasma florentina walkeri, Epioblasma othcaloogensis, Epioblasma triquetra, Fusconaia cor, Fusconaia cuneolus, Hamiota altilis, Hemistena lata, Lampsilis virescens, Lemiox rimosus, Lexingtonia dolabelloides, Medionidus acutissimus, Obovaria retusa, Pegias fabula, Pleurobema gibberum, Pleurobema hanleyianum, Pleurobema perovatum, Ptychobrachus greenii, Ptychobrachus subtentum, Quadrula cylindrica strigillata, Quadrula fragosa, Quadrula intermedia, Quadrula sparsa, Toxolasma cylindrellus, Villosa purpurea, and Villosa trabilis. Proposed activities include surveys to document presence or absence of the species for the enhancement of survival of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: May 20, 2011.
Sean Marsan,
Acting Assistant Regional Director, Ecological Services, Region 3.

[FR Doc. 2011-13222 Filed 5-26-11; 8:45 am]

BILLING CODE 4310-55-P